FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR Part 515, effective on the corresponding date shown below:

License Number: 003121f.

Name: Aj International, Inc.

Address: 1300 Midland Avenue—B55, P.O. Box 818, Yonkers, NY 10704.

Date Revoked: October 27, 2006.

Reason: Surrendered License Voluntarily.

License Number: 003635f.

Name: F. Angel & Associates, Inc.

Address: 15231 SW 26th Terrace, Miami, FL 33185.

Date Revoked: November 6, 2006.

Reason: Failed To Maintain a Valid Bond.

Peter J. King,
Deputy Director, Bureau of Certification and Licensing.

[FR Doc. E6-19778 Filed 11-21-06; 8:45 am]

BILLING CODE 6730-01-P